DEPARTMENT OF HOUSING AND URBAN DEVELOPMENT

[Docket No. FR-5681-N-43]

Federal Property Suitable as Facilities To Assist the Homeless

AGENCY: Office of the Assistant Secretary for Community Planning and Development, HUD.

ACTION: Notice.

SUMMARY: This Notice identifies unutilized, underutilized, excess, and surplus Federal property reviewed by HUD for suitability for use to assist the homeless.

FOR FURTHER INFORMATION CONTACT: Juanita Perry, Department of Housing and Urban Development, 451 Seventh Street SW., Room 7266, Washington, DC 20410; telephone (202) 402-3970; TTY number for the hearing- and speech-impaired (202) 708-2565 (these telephone numbers are not toll-free), or call the toll-free Title V information line at 800-927-7588.

SUPPLEMENTARY INFORMATION: In accordance with 24 CFR part 581 and section 501 of the Stewart B. McKinney Homeless Assistance Act (42 U.S.C. 11411), as amended, HUD is publishing this Notice to identify Federal buildings and other real property that HUD has reviewed for suitability for use to assist the homeless. The properties were reviewed using information provided to HUD by Federal landholding agencies regarding unutilized and underutilized buildings and real property controlled by such agencies or by GSA regarding its inventory of excess or surplus Federal property. This Notice is also published in order to comply with the December 12, 1988 Court Order in National Coalition for the Homeless v. Veterans Administration, No. 88-2503-OG (D.D.C.).

Properties reviewed are listed in this Notice according to the following categories: Suitable/available, suitable/unavailable, and suitable/to be excess, and unsuitable. The properties listed in the three suitable categories have been reviewed by the landholding agencies, and each agency has transmitted to HUD: (1) Its intention to make the property available for use to assist the homeless, (2) its intention to declare the property excess to the agency's needs, or (3) a statement of the reasons that the property cannot be declared excess or made available for use as facilities to assist the homeless.

Properties listed as suitable/available will be available exclusively for homeless use for a period of 60 days from the date of this Notice. Where property is described as for “off-site use only” recipients of the property will be required to relocate the building to their own site at their own expense. Homeless assistance providers interested in any such property should send a written expression of interest to HHS, addressed to Theresa Ritta, Office of Enterprise Support Programs, Program Support Center, HHS, room 12-07, 5600 Fishers Lane, Rockville, MD 20857; (301) 443-2265. (This is not a toll-free number.) HHS will mail to the interested provider an application packet, which will include instructions for completing the application. In order to maximize the opportunity to utilize a suitable property, providers should submit their written expressions of interest as soon as possible. For complete details concerning the processing of applications, the reader is encouraged to refer to the interim rule governing this program, 24 CFR part 581.

For properties listed as suitable/to be excess, that property may, if subsequently accepted as excess by GSA, be made available for use by the homeless in accordance with applicable law, subject to screening for other Federal use. At the appropriate time, HUD will publish the property in a Notice showing it as either suitable/available or suitable/unavailable.

For properties listed as suitable/unavailable, the landholding agency has decided that the property cannot be declared excess or made available for use to assist the homeless, and the property will not be available.

Properties listed as unsuitable will not be made available for any other purpose for 20 days from the date of this Notice. Homeless assistance providers interested in a review by HUD of the determination of unsuitability should call the toll free information line at 1-800-927-7588 for detailed instructions or write a letter to Ann Marie Oliva at the address listed at the beginning of this Notice. Included in the request for review should be the property address (including zip code), the date of publication in the Federal Register, the landholding agency, and the property number.

For more information regarding particular properties identified in this Notice (i.e., acreage, floor plan, existing sanitary facilities, exact street address), providers should contact the appropriate landholding agencies at the following addresses: Agriculture: Ms. Debra Kerr, Department of Agriculture, Reporters Building, 300 7th Street SW., Room 300, Washington, DC 20024, (202)-720-8873; Air Force: Mr. Robert Moore, Air Force Real Property Agency, 2261 Hughes Avenue, Suite 156, Lackland AFB, TX, 78236-9852, (210) 395-9512; Army: Ms. Veronica Rines, Office of the Assistant Chief of Staff for Installation Management, Department of Army, Room 5A128, 600 Army Pentagon, Washington, DC 20310, (571)-256-8145; Coast Guard: Commandant, United States Coast Guard, Attn: Jennifer Stomber, 2100 Second St. SW., Stop 7901, Washington, DC 20593-0001; (202) 475-5609; GSA: Mr. Flavio Peres, General Services Administration, Office of Real Property Utilization and Disposal, 1800 F Street NW., Room 7040 Washington, DC 20405, (202)-501-0084; Interior: Mr. Michael Wright, Acquisition & Property Management, Department of the Interior, MS-4262, 1849 C Street, Washington, DC, 20240, (202)-513-0795; Navy: Mr. Steve Matteo, Department of the Navy, Asset Management Division, Naval Facilities Engineering Command, Washington Navy Yard, 1330 Patterson Ave., SW., Suite 1000, Washington, DC 20374; (202)-685-9426; (These are not toll-free numbers).

Dated: October 31, 2013.
Mark Johnston,
Deputy Assistant Secretary for Special Needs.

TITLE V, FEDERAL SURPLUS PROPERTY PROGRAM FEDERAL REGISTER REPORT FOR 11/08/2013

Suitable/Available Properties

Building

Illinois

Nematology HH/GH 194

1105 S. Dorner Dr.

Urbana IL

Landholding Agency: Agriculture

Property Number: 15201330014

Status: Unutilized

Directions: ARS Inventory No 361100B194 and RPUID 03.51582

Comments: 3,582 sf.; greenhouse; 15+ months vacant; repairs needed; transferee will need to negotiate a lease w/State University (who owns land the bldg. sits on); contact Agriculture for more info.

Minnesota

Marcell Nursery Stock Storage

49554 Hwy 38

Marcell MN 56657

Landholding Agency: Agriculture

Property Number: 15201320029

Status: Unutilized

Comments: 140 sf.; cooler; 120+ yrs. vacant; need major repairs; contact the USDA Forest Service for more info.

New York

Housing Units

USCG Ft. Wadsworth Hsg. Site

Staten Island NY 10305

Landholding Agency: Coast Guard

Property Number: 88201340002

Status: Excess

Directions: 444(15,786 sq. ft.); 439 (15,661 sq. ft.); 433 (14,400 sq. ft.); 435 (11,480 sq. ft.)

Comments: Off-site removal only; sq. ft. varies (see above); deteriorated; secured area; contact Coast Guard for more info. re: accessibility & info. on a specific property

Oklahoma

Building 183

Altus AFB AGGN

Altus OK 73523

Landholding Agency: Air Force

Property Number: 18201340001

Status: Unutilized

Comments: 167 sq. ft.; no bathroom; secured area; escort required each time to access property; asbestos; contact Air Force for more info.

Washington

Former Seattle Branch of the Federal Reserve Bank

1015 Second Ave.

Seattle WA 98104

Landholding Agency: GSA

Property Number: 54201340001

Status: Excess

GSA Number: 9-G-WA-1259

Directions: Previously reported as suitable/unavailable under 54201220007

Comments: 85,873 sq. ft.; 67+ months vacant; extensive repairs/remediation needed to occupy; asbestos/lead; historic property; any renov. will need prior approval; contact GSA for more info.

Henke Triple Wide Mobile Home

10466 Idano Rd.

Moses Lake WA

Landholding Agency: Interior

Property Number: 61201340001

Status: Excess

Comments: Off-site removal only; 2,555 sq. ft.; residential; 3+ months vacant; good condition; contact Interior for more info.

Henke Garage-Columbia Basin Project

10466 Idano Rd.

Moses Lake WA

Landholding Agency: Interior

Property Number: 61201340002

Status: Excess

Comments: Off-site removal only; 720 sq. ft.; garage/shop/well house; 3+ months vacant; good condition; contact Interior for more info.

West Virginia

Appalachian Farming System

Research Ctr. Main Lab

1224 Airport Rd.

Beaver WV 25813

Landholding Agency: GSA

Property Number: 54201340002

Status: Excess

GSA Number: 4-A-WV-559AA

Directions: Landholding Agency- US Forest Service

Disposal Agency- GSA

Comments: 4 buildings totaling 44,052 sq. ft.; USDA research facility; 12= months vacant; good condition; some water damage; contact GSA for more info. on a specific property

Land

West Virginia

Appalachian Farming System

Research Ctr. Peters Farms

227 Peters Ct.

Cool Ridge WV 25825

Landholding Agency: GSA

Property Number: 54201340003

Status: Excess

GSA Number: 4-A-WV-559AD

Directions: Landholding Agency- US Forest Service

Disposal Agency- GSA

Comments: 53.6 acres; agricultural/research; possible wetlands near property; contact GSA for more info.

Appalachian Farming System

Research School House Farm

4362 Pluto Rd.

Shady Springs WV 25918

Landholding Agency: GSA

Property Number: 54201340004

Status: Excess

GSA Number: 4-A-WV-559AC

Directions: Landholding Agency- US Forest Service

Disposal Agency- GSA

Comments: 54.8 acres; agricultural/research; Sec. 106 Nat'l Historic review required to transfer out of federal ownership; contact GSA for more info.

Appalachian Farming System

Research Ctr. Reba Plumley Farm

898 Country Rte. 27

Shady Springs WV 25918

Landholding Agency: GSA

Property Number: 54201340005

Status: Excess

GSA Number: 4-A-WV-559AB

Directions: Landholding Agency- US Forest Service

Disposal Agency- GSA

Comments: 126.6 acres; agricultural/research; Sec. 106 Nat'l Historic review required to transfer out of federal ownership; contact GSA for more info.

Unsuitable Properties

Building

California

Building PM2-806

Naval Base Ventura Co.,

311 Main Rd.

Point Mugu CA 93043

Landholding Agency: Navy

Property Number: 77201340002

Status: Underutilized

Comments: w/in a controlled perimeter of a DoD installation; public access denied & no alternative method to gain access w/out compromising national security

Reasons: Secured Area

Maryland

Sandblast Shed (58) [68056]

US Coast Guard Yard

Baltimore MD 21226

Landholding Agency: Coast Guard

Property Number: 88201340001

Status: Excess

Comments: Public access denied and no alternative method to gain access w/out compromising national security

Reasons: Secured Area

Mississippi

4 Buildings

Rosenbaum Ave.

Meridian MS

Landholding Agency: Navy

Property Number: 77201340003

Status: Excess

Directions: 203,210,315,366

Comments: Public access denied and no alternative method to gain access without compromising national security

Reasons: Secured Area

New York

U.S. Coast Guard Sector

Buffalo

1 Futhrmann Blvd.

Buffalo NY 14203

Landholding Agency: Coast Guard

Property Number: 88201340003

Status: Excess

Comments: active government facility; public access denied and no alternative method to gain access without compromising national security

Reasons: Secured Area

Tennessee

6 Bldgs.

Fort Campbell Military Installation

Fort Campbell TN 42223

Landholding Agency: Army

Property Number: 21201210075

Status: Unutilized

Directions:

6844, 7502, 7503,7605,7606,7608

Comments: Nat'l security concerns; restricted access and no alternative method of access; CORRECTION: building 7605 was erroneously left off listing; 20-day holding from 11/08/13 will only apply to this bldg.

Reasons: Secured Area

Building 1514

Naval Support Activity Mid-South

Millington TN

Landholding Agency: Navy

Property Number: 77201340001

Status: Unutilized

Comments: Public access denied and no alternative method to gain access w/out compromising national security

Reasons: Secured Area

[FR Doc. 2013-26477 Filed 11-7-13; 8:45 am]

BILLING CODE 4210-67-P